DEPARTMENT OF THE INTERIOR

Bureau of Land Management

[ID-080-1110-XG]

Notice of Address Change for Salmon and Challis (Idaho) Offices

AGENCY: Bureau of Land Management, Upper Columbia—Salmon Clearwater District, Idaho.

ACTION: Notice of address changes for Salmon and Challis (Idaho) Offices.

SUMMARY: Due to recent moves, the addresses for the Bureau of Land Management (BLM) offices in Salmon and Challis, Idaho have changed. The new addresses are as follows and are effective immediately:

Bureau of Land Management, Salmon Field Office, 50 Highway 93 S., Salmon, Idaho 83467

Bureau of Land Management, Challis Field Office, HC 63, Box 1670, Challis, Idaho 83226-9304

FOR FURTHER INFORMATION CONTACT: Jenifer Arnold (208) 769-5000.

Dated: December 27, 2000.
Ted Graf,
Acting District Manager.

[FR Doc. 01-181 Filed 1-3-01; 8:45 am]

BILLING CODE 4310-GG-M